ENVIRONMENTAL PROTECTION AGENCY

40 CFR Part 52

[EPA-R07-OAR-2012-0466; FRL-9726-2]

Approval and Promulgation of Implementation Plans; State of Missouri; Maximum Allowable Emission of Particulate Matter From Fuel Burning Equipment Used for Indirect Heating

AGENCY: Environmental Protection Agency (EPA).

ACTION: Direct final rule.

SUMMARY: EPA is taking direct final action to approve a revision to the Missouri State Implementation Plan (SIP) to incorporate a new Missouri regulation to restrict Particulate Matter (PM) emissions from fuel burning equipment used for indirect heating. The new regulation consolidates four existing area-specific regulations into one state-wide rule for clarity. The requirements prescribed in the new regulation are as stringent as the conditions specified in the currently approved SIP with the four existing area-specific regulations. EPA has determined that the SIP revision submitted by the State of Missouri satisfies the applicable requirements of the Clean Air Act (CAA or Act).

DATES: This direct final rule will be effective November 13, 2012, without further notice, unless EPA receives adverse comment by October 15, 2012. If EPA receives adverse comment, we will publish a timely withdrawal of the direct final rule in the Federal Register informing the public that the rule will not take effect.

ADDRESSES: Submit your comments, identified by Docket ID No. EPA-R07-OAR-2012-0466, by one of the following methods:

1. www.regulations.gov: Follow the on-line instructions for submitting comments.

2. Email: doolan.stephanie@epa.gov.

3. Mail or Hand Delivery: Stephanie Doolan, Environmental Protection Agency, Air Planning and Development Branch, 901 North 5th Street, Kansas City, Kansas 66101.

Instructions: Direct your comments to Docket ID No. EPA-R07-OAR-2012-0466. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket. All documents in the electronic docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Air Planning and Development Branch, 901 North 5th Street, Kansas City, Kansas. EPA requests that you contact the person listed in the FOR FURTHER INFORMATION CONTACT section to schedule your inspection. The interested persons wanting to examine these documents should make an appointment with the office at least 24 hours in advance.

FOR FURTHER INFORMATION CONTACT: Stephanie Doolan, Environmental Protection Agency, Air Planning and Development Branch, 901 North 5th Street, Kansas City, Kansas 66101, at (913) 551-7719, or by email at doolan.stephanie@epa.gov.

SUPPLEMENTARY INFORMATION: Throughout this document “we,” “us,” or “our” refer to EPA.

Table of Contents

I. Background for the Action

II. EPA Review of the State Submittal

A. Summary of the Emission Limits

B. Enforceability

III. Final Action

IV. Statutory and Executive Order Reviews

I. Background for the Proposal

The SIP revision which is the subject of this action was submitted by Missouri by letter dated October 11, 2011. The revision consists primarily of a consolidation of existing rules relating to PM emission from indirect heating sources. EPA most recently revised the NAAQS for PM on October 17, 2006. (71 FR 61144). The PM standard regulates two types of particulates: fine particulates, or PM2.5, which generally refers to particles less than or equal to 2.5 micrometers (µm) in diameter; and coarse particulates, or PM10, referring generally to particles less than or equal to 10 µm in diameter. Because the preexisting state rules were designed to address a prior NAAQS for total suspended particulates, the consolidated Missouri rule regulates total PM emissions, without reference to particle size.

Today's action does not change existing emissions limitations, but rather consolidates four previously existing Missouri area-specific rules into one state-wide standard for clarity. The consolidated rule provides an exemption for units that burn specific types of “clean burning” fuels and an alternative method of demonstrating compliance by averaging emissions for facilities with multiple units subject to this rule, as described in more detail below. These four rules were previously approved into the Missouri SIP. See 40 CFR 52.1320(c).

The four rules which are being consolidated into the new Missouri rule include:

—10 CSR 10-2.040, Maximum Allowable Emission of Particulate Matter from Fuel Burning Equipment Used for Indirect Heating, for the Kansas City Metropolitan Area;

—10 CSR 10-3.060, Maximum Allowable Emission of Particulate Matter from Fuel Burning Equipment Used for Indirect Heating, applicable to the “out state area” defined as areas in Missouri other than the City of St. Louis, and St. Charles, St. Louis, Jefferson, Franklin, Clay, Cass, Buchanan, Ray, Jackson, Platte and Greene Counties;

—10 CSR 10-4-040, Maximum Allowable Emission of Particulate Matter from Fuel Burning Equipment Used for Indirect Heating, for Springfield-Greene County area; and

—10 CSR 10-5.030, Maximum Allowable Emission of Particulate Matter from Fuel Burning Equipment Used for Indirect Heating, for the St. Louis Metropolitan Area.

These standards have been consolidated into one state-wide rule, 10 CSR 10-6.405, Restriction of Particulate Matter Emissions from Fuel Burning Equipment Used for Indirect Heating.

Missouri's new rule restricts the emission of PM from fuel burning equipment used for indirect heating. As discussed above, the rule applies state-wide, with additional conditions applicable to the Springfield, Kansas City and St. Louis Metropolitan Areas. The rule applies to facilities that burn fuel for the primary purpose of producing steam, hot water, or hot air or other indirect heating of liquids, gases or solids and, in the course of doing so, the products of combustion do not come into contact with process materials. The types of facilities affected by this rule include but are not limited to utility and industrial boilers, process heaters and smelters of all sizes. The types of fuel may include but are not limited to coal, tire-derived fuel, coke, lignite, coke breeze, gas, fuel oil, biomass and wood, but do not include refuse.

An installation is excluded from this rule if all of the installation's applicable units are fueled only by landfill gas, propane, natural gas, fuel oils #2 through #6 (provided that the fuels are low in sulfur), or other gases with low hydrogen sulfide and/or mercury content, as discussed in greater detail below.

EPA's analysis of the State's SIP submittal is presented below. As a result of EPA's analysis, we are approving this request and are amending Missouri's SIP to remove the four pre-existing rules and replace them with the new rule, 10 CSR 10-6.405. This revision creates the new consolidated rule and rescinds the former area-specific rules.

This rulemaking does not change the substantive PM emissions requirements. It merely clarifies the Missouri regulation, adds exemptions for individual emission units using clean-burning fuels and for entire facilities using only these specific clean fuels, and is expected to improve compliance.

II. EPA Review of the State Submittal

A. Summary of Revised Emission Limits

The Missouri rule establishes emission rate limits for installations in which fuel is burned for the primary purpose of producing steam, hot water, or hot air or other indirect heating of liquids, gases, or solids and in the course of doing so, the products of combustion do not come into direct contact with process materials. As discussed above, fuels may include but are not limited to coal, tire-derived fuel, coke, lignite, coke breeze, gas, fuel oil, biomass and wood, but do not include refuse.

An installation is excluded from this rule if all of the installation's applicable units are fueled only by landfill gas, propane, natural gas, fuel oils #2 through #6 (with less than 1.2 percent sulfur), or other gases (with hydrogen sulfide levels less than or equal to four parts-per-million by volume as measured by American Standard for Testing of Materials (ASTM) ASTM D4084, or equivalent method, and mercury concentrations less than 40 micrograms per cubic meter as measured using ASTM D5954, or ASTM D6350, or equivalent), or any combination of these fuels.

In a correspondence dated January 31, 2012, the Missouri Department of Natural Resources (MDNR) provided supplemental information to EPA supporting the rule. In its analysis of the emissions impact of the clean fuels exclusion, MDNR relied on a technical analysis of emissions from units burning such fuels, performed for EPA in conjunction with the boiler MACT rulemaking (76 FR 80532). MDNR compared projected emissions from such units to the emission limitations under the state rule, and concluded that emissions would be lower with the use of clean fuels than emissions allowed under the state's indirect heating rule. MDNR concluded, based on this analysis, that emissions would not increase as a result of the exclusion. EPA has reviewed MDNR's analysis and agrees with this conclusion.

The Missouri rule sets emission limits for Existing Indirect Heating Sources based on the area of the State (Kansas City and St. Louis Metropolitan areas, or Springfield—Greene County and Outstate Missouri areas) and the aggregate heat content of all fuels whose combustion products pass through a stack(s). These limits are the same as those already approved in the State SIP through the adoption of the pre-existing rules.

Similarly, the Missouri rule sets emission limits for New Indirect Heating Sources. Again, these limits are the same as those already approved in the State SIP through the adoption of the pre-existing regulations.

The Missouri rule also presents the option of demonstrating compliance if the weighted average emission rate (WAER) of two or more indirect heating sources is less than or equal to the maximum allowable particulate emission rate limits for PM emissions required by the regulation. EPA has reviewed this approach and determined that it is a valid method for demonstrating compliance with the standard because it achieves the same overall level of emissions for the installation.

The January 31, 2012, correspondence, referenced above, also included a technical analysis demonstrating that the averaging approach versus unit-specific PM limits for determining compliance with the rule had no effect on the emission limits. EPA agrees with this analysis.

In summary, EPA has reviewed this consolidated regulation and determined that it achieves the same level of PM control as the pre-existing four regulations, and therefore is equally protective of human health and the environment.

B. Enforceability

The Missouri rule is state enforceable and has already been made effective by the state as of October 30, 2011. The Missouri rule specifies reporting and record keeping requirements for installations subject to the rule. The owner or operator of an installation subject to the rule shall maintain records annual emissions and testing records demonstrating compliance with the rule for a period of five years. These records must be available to MDNR upon request.

III. Final Action

EPA is approving Missouri's request to include the new State rule regulation into the Missouri SIP. This approval is based on EPA's finding that the rule is as stringent as the four rules it replaces and fulfills the requirements of the CAA. EPA notes that although this SIP revision does not reduce state-wide PM from current levels, it consolidates and clarifies four existing rules to result in greater compliance toward attaining the 2006 p.m. NAAQS.

IV. Statutory and Executive Order Reviews

Under the CAA, the Administrator is required to approve a SIP submission that the Administrator determines to be in compliance with the provisions of the Act and applicable Federal regulations. 42 U.S.C. 7410(k); 40 CFR 52.02(a). Thus, in reviewing SIP submissions, EPA's role is to approve state choices, provided that they meet the criteria of the CAA. Accordingly, this action does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this action does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined in 5 U.S.C. 804(2).

Under section 307(b)(1) of the CAA, petitions for judicial review of this action must be filed in the United States Court of Appeals for the appropriate circuit by March 16, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: August 29, 2012.
Mark J. Hague,
Acting Regional Administrator, Region 7.

40 CFR part 52 is amended as follows:

PART 52—[AMENDED]

1. The authority citation for part 52 continues to read as follows:

Authority: 42 U.S.C. 7401 et seq.

Subpart AA—Missouri

2. Section 52.1320(c) is amended by revising the entries for 10-2.040, 10-3.060, 10-4.040, and 10-5.030 and adding an entry for 10-6.405 to the table in numerical order to read as follows:

§ 52.1320 Identification of Plan.

* * * * *

(c) * * *

EPA-Approved Missouri Regulations
Missouri citation | Title | State effective date | EPA approval date | Explanation
* * * * * * *
10-2.040 | Maximum Allowable Emission of Particulate Matter from Fuel Burning Equipment Used for Indirect Heating | 9/4/84 | 1/24/85, 50 FR 3337 | Rescinded.
* * * * * * *
10-3.060 | Maximum Allowable Emission of Particulate Matter from Fuel Burning Equipment Used for Indirect Heating | 11/30/02 | 3/18/03, 68 FR 12831 | Rescinded.
* * * * * * *
10-4.040 | Maximum Allowable Emission of Particulate Matter from Fuel Burning Equipment Used for Indirect Heating | 11/30/02 | 3/18/03, 68 FR 12831 | Rescinded.
* * * * * * *
10-5.030 | Maximum Allowable Emission of Particulate Matter from Fuel Burning Equipment Used for Indirect Heating | 9/4/84 | 1/24/85, 50 FR 3337 | Rescinded.
* * * * * * *
10-6.405 | Restriction of Particulate Matter Emissions From Fuel Burning Equipment Used for Indirect Heating | 10/30/11 | 9/13/12 [insert Federal Register page number where the document begins] | Replaces 10-2.040, 10-3.060, 10-4.040, and 10-5.030
* * * * * * *

* * * * *

[FR Doc. 2012-22471 Filed 9-12-12; 8:45 am]

BILLING CODE 6560-50-P